DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of four entities that have been placed on OFAC's Specially Designated Nationals and Blocked Persons List (SDN List) whose property and interests in property have been blocked pending investigation. All property and interests in property subject to U.S. jurisdiction of these entities are blocked pending investigation, and U.S. persons are generally prohibited from engaging in transactions with them.

DATES: See SUPPLEMENTARY INFORMATION section for applicable date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On September 14, 2023, pursuant to section 203 of the International Emergency Economic Powers Act, 50 U.S.C. 1702, Executive Order 14024 of April 15, 2021, “Blocking Property With Respect to Specified Harmful Activities of the Government of the Russian Federation,” 86 FR 20249, 3 CFR, 2021 Comp., p. 542 (Apr. 15, 2021), and section 587.201 of the Russian Harmful Foreign Activities Sanctions Regulations, 31 CFR part 587 (the “Regulations”), OFAC blocked pending investigation the property and interests in property of the following four entities whose names will be placed on the SDN List with the tag [BPI-RUSSIA-EO14024] in accordance with Note 2 to § 587.201 of the Regulations.

BILLING CODE 4810-AL-P

Dated: September 14, 2023.
Bradley T. Smith,
Director, Office of Foreign Assets Control, U.S. Department of the Treasury.

[FR Doc. 2023-20235 Filed 9-18-23; 8:45 am]

BILLING CODE 4810-AL-C